DEPARTMENT OF HOMELAND SECURITY

Federal Emergency Management Agency

[Docket No. FEMA-2007-0008]

National Advisory Council; Notice of Federal Advisory Committee Meeting

AGENCY: Federal Emergency Management Agency, DHS.

ACTION: Notice of Federal Advisory Committee Meeting.

SUMMARY: This notice announces the date, time, location and agenda for the inaugural meeting of the National Advisory Council (NAC). At the meeting, members will be introduced and sworn in and the Chair and Vice Chair will be introduced. Members will also receive briefings on the status of the reorganized Federal Emergency Management Agency (FEMA) and its programs, and to discuss the vision, priorities and structure for the NAC. The meeting will be open to the public.

DATES: Meeting Dates: Monday, October 22, 2007, 9:45 a.m. to 5 p.m. and Tuesday, October 23, 2007, 9 a.m. to 4:30 p.m. A public comment period will take place on October 23, 2007 between 3:15 p.m. and 4:30 p.m.

Comment Date: Written comments or requests to make oral presentations must be received by October 15, 2007.

ADDRESSES: The meeting will be held in Ballroom B/C of the Sheraton Crystal City Hotel, 1800 Jefferson Davis Highway, Arlington, Virginia 22202. Persons wishing to make an oral presentation or who are unable to attend or speak at the meeting may submit written comments. Written comments and requests to make oral presentations at the meeting should reach Alyson Price at the address listed below and must be received by October 15, 2007. All submissions received must include the docket number FEMA-2007-0008 and may be submitted by any one of the following methods:

Federal Rulemaking Portal: http://www.regulations.gov. Follow instructions for submitting comments on the Web site.

E-mail: FEMA-RULES@dhs.gov. Include docket number in the subject line of the message.

Facsimile: (866) 466-5370.

Mail: Alyson Price, Designated Federal Officer, Federal Emergency Management Agency, 500 C Street, SW., (E Street, 3rd Floor), Washington, DC 20472.

Hand Delivery/Courier: National Advisory Council, DFO c/o Rules Docket Clerk, Office of the Chief Counsel, Federal Emergency Management Agency, Room 835, 500 C Street, SW., Washington, DC 20472.

Instructions: All submissions received must include the docket number: FEMA-2007-0008. Comments received will also be posted without alteration at http://www.regulations.gov, including any personal information provided. You may want to read the Privacy Act Notice located on the Privacy and Use Notice link on the Administration Navigation Bar of the Web site http://www.regulations.gov.

Docket: For access to the docket to read background documents or comments received by the National Advisory Council, go to http://www.regulations.gov.

FOR FURTHER INFORMATION CONTACT: Alyson Price, Designated Federal Officer, Federal Emergency Management Agency, 500 C Street, SW., (E Street, 3rd Floor), Washington, DC 20472, telephone 202-646-3746, fax 202-646-3061, and e-mail Alyson.Price@dhs.gov.

SUPPLEMENTARY INFORMATION: Notice of this meeting is given under the Federal Advisory Committee Act (FACA), Public Law 92-463, as amended (5 U.S.C. App. 1 et seq.). The NAC will be holding its first meeting on Monday and Tuesday, October 22 and 23, 2007, in Ballroom B/C of the Sheraton Crystal City Hotel, 1800 Jefferson Davis Highway, Arlington, Virginia 22202.

Agenda of Council Meeting, October 22-23, 2007

The tentative agenda includes the following:

Monday, October 22, 2007

(1) Introduction of the Chair and Vice Chair;

(2) Introduction and swearing-in of members;

(3) FEMA Administrator's vision for the NAC;

(4) Introduction of FEMA leadership;

(5) FEMA programs overview; and

(6) Review of FEMA Strategic Plan.

Tuesday, October 23, 2007

(1) Summary of previous day;

(2) Structure and assignment of Subcommittee Chairs;

(3) Discussion Wrap-up/Next Steps;

(4) Public comment period; and

(5) Travel instructions/paperwork.

A public comment period will take place on October 23, 2007, between 3:15 p.m. and 4:30 p.m.

Public Attendance: The meeting is open to the public. Persons with disabilities who require special assistance should advise Alyson Price of their anticipated special needs as early as possible. Members of the public who wish to make comments on Tuesday, October 23 between 3:15 p.m. and 4:30 p.m. are requested to register in advance. In order to allow as many people as possible to speak, speakers are requested to limit their remarks to three minutes. For those wishing to submit written comments, please follow the procedure noted above.

Dated: September 20, 2007.
R. David Paulison,
Administrator, Federal Emergency Management Agency.

[FR Doc. E7-19063 Filed 9-26-07; 8:45 am]

BILLING CODE 9110-21-P